DEPARTMENT OF COMMERCE

Foreign-Trade Zones Board

[Order No. 1480]

Proposal to Facilitate the Use of Foreign-Trade Zones by Small and Medium-Sized Manufacturers

Pursuant to its authority under the Foreign-Trade Zones Act, of June 18, 1934, as amended (19 U.S.C. 81a-81u), the Foreign-Trade Zones Board (the Board) adopts the following Order:

WHEREAS, the Foreign-Trade Zones (FTZ) Board (the Board), has proposed modifying its 2004 delegation of authority to the Board's Executive Secretary to approve temporary/interim manufacturing (T/IM) authority under certain circumstances;

WHEREAS, the FTZ Board published a Federal Register notice on April 25, 2006 (71 FR 23895-23896) describing a proposal to define eligibility for T/IM application consideration on the basis of broader product and input categories than is currently the Board's practice;¹

¹ The notice soliciting comments on the proposal stated that T/IM applicants would still be required to explain the specific activity which they seek to conduct under T/IM procedures, including the degree of similarity of requested products/inputs to already approved products/inputs in the T/IM database. The notice added that modification of the T/IM procedure would leave most current elements of T/IM practice in place, including limitation to non-complex, non-controversial proposals, the requirement for a 30-day public comment period on any T/IM proposal, the practice of consultation with appropriate industry experts within government, and the FTZ Board Executive Secretary's discretion to refer any T/IM case to the full FTZ Board.

WHEREAS, the FTZ Board staff has prepared a report (“Improving the Temporary/Interim Manufacturing Procedure for Small and Medium-Sized Manufacturers”) recommending adoption of the proposal described in the Federal Register notice;

NOW, THEREFORE, the FTZ Board adopts the recommendations of the FTZ Board staff report and hereby modifies its delegation of authority to the FTZ Board's Executive Secretary to grant temporary or interim authority for manufacturing within pre-existing FTZ space, subject to the conditions, restrictions, and limitations described in the Board's Federal Register notice (71 FR 23895-23896, 4/25/2006) and in the FTZ Board staff report, and leaving in place any elements of the existing T/IM delegation not modified in the published proposal or FTZ Board staff report, including a requirement that the FTZ Board staff notify the Board members (or their delegates) of all grants of T/IM authority on a quarterly basis.

Signed at Washington, DC, this 15th day of September 2006.

David M. Spooner,
Assistant Secretary of Commerce for Import Administration,Alternate Chairman Foreign-Trade Zones Board.
Attest:
Pierre V. Duy,
Acting Executive Secretary.

[FR Doc. 06-8078 Filed 9-21-06; 8:45 am]

BILLING CODE 3510-DS-S